NUCLEAR REGULATORY COMMISSION

[Docket No. 50-255]

Consumers Energy Company; Notice of Withdrawal of Application for Amendment to Facility Operating License

The U.S. Nuclear Regulatory Commission (the Commission) has granted the request of Consumers Energy Company (the licensee) to withdraw its November 9, 1998, application for proposed amendment to Facility Operating License No. DPR-20 for the Palisades Plant, located in Covert, Michigan.

The proposed amendment would have revised the Technical Specifications by deleting the chemical and volume control system (CVCS) operability and surveillance requirements, which the licensee had incorporated into the facility's Operating Requirements Manual (ORM). In its letter of January 13, 2000, the licensee stated that the proposed amendment was no longer needed because (1) the CVCS repairs anticipated at the time of the application for amendment were completed during a subsequent forced outage, and (2) the NRC's subsequent approval of the Improved Technical Specifications (Amendment 189, dated November 30, 1999) deleted the CVCS requirements that the licensee had incorporated into the ORM.

The Commission had previously issued a Notice of Consideration of Issuance of Amendment published in the Federal Register on December 16, 1998 (63 FR 69337). However, by letter dated January 13, 2000, the licensee withdrew the proposed change.

For further details with respect to this action, see the application for amendment dated November 9, 1998, and the licensee's letter dated January 13, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 2d day of February 2000.
For the Nuclear Regulatory Commission.
Darl S. Hood,
Senior Project Manager, Section1, Project Directorate III, Division of Licensing Project Management, Office of Nuclear Reactor Regulation.

[FR Doc. 00-3095 Filed 2-9-00; 8:45 am]

BILLING CODE 7590-01-P